DEPARTMENT OF TRANSPORTATION

Federal Aviation Administration

Agency Information Collection Activity Under OMB Review, Request for Comments; Renewal of an Approved Information Collection Activity, Air Carrier Listing of Leading Outsource Maintenance Providers

AGENCY: Federal Aviation Administration (FAA), DOT.

ACTION: Notice and request for comments.

SUMMARY: The FAA invites public comments about our intention to request the Office of Management and Budget's (OMB) renewal of a current information collection. The Federal Register Notices with a 60-day comment period soliciting comments on the following collection of information was published on December 5, 2005, vol. 70, #232, page 72496. The data from this report will be used to assist the principal maintenance or avionics inspector in preparing the annual FAA surveillance requirements of the leading contract maintenance providers to the air operators.

DATES: Please submit comments by March 15, 2006.

FOR FURTHER INFORMATION CONTACT: Judy Street on (202) 267-9895.

SUPPLEMENTARY INFORMATION:

Federal Aviation Administration (FAA)

Title: Air Carriers Listing of Leading Outsource Maintenance Providers.

Type of Request: Renewal of an approved collection.

OMB Control Number: 2120-0708.

Forms(s): Quarterly Outsource Maintenance Providers Utilization Report.

Affected Public: A total of 121 Respondents.

Frequency: The information is collected quarterly.

Estimated Average Burden Per Response: Approximately 1 hour per response.

Estimated Annual Burden Hours: An estimated 484 hours annually (This is an increase over the previous estimate for this collection. We have revised the time estimated to complete the form).

Abstract: The data from this report will be used to assist the principal maintenance or avionics inspector in preparing the annual FAA surveillance requirements of the leading contract maintenance providers to the air operators.

ADDRESSES: Send comments to the Office of Information and Regulatory Affairs, Office of Management and Budget, 725 17th Street, NW., Washington, DC 20503, Attention FAA Desk Officer.

Comments are invited on: Whether the proposed collection of information is necessary for the proper performance of the functions of the Department, including the information will have practical utility; the accuracy of the Department's estimates of the burden of the proposed information collection; ways to enhance the quality, utility and clarity of the information to be collected; and ways to minimize the burden of the collection of information on respondents, including the use of automated collection techniques or other forms of information technology.

Issued in Washington, DC, on February 3, 2006.
Judith D. Street,
FAA Information Collection Clearance Officer, Information Systems and Technology Services Staff, ABA-20.

[FR Doc. 06-1313 Filed 2-10-06; 8:45 am]

BILLING CODE 4910-13-M